NUCLEAR REGULATORY COMMISSION

[NRC-2022-0149]

Discontinuation of the Mississippi Agreement State Program's Probationary Period

AGENCY: Nuclear Regulatory Commission.

ACTION: Notice.

SUMMARY: The U.S. Nuclear Regulatory Commission (NRC) has discontinued Mississippi's Probationary period.

DATES: December 12, 2023.

ADDRESSES: Please refer to Docket ID NRC-2022-0149 when contacting the NRC about the availability of information regarding this document. You may obtain publicly available information related to this document using any of the following methods:

• Federal Rulemaking Website: Go to https://www.regulations.gov and search for Docket ID NRC-2022-0149. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Robert Johnson, Office of Nuclear Material Safety and Safeguards, U.S. Nuclear Regulatory Commission, Washington, DC 20555-0001; telephone: 301-415-7314; email: Robert.Johnson@nrc.gov.

SUPPLEMENTARY INFORMATION: Section 274b of the Atomic Energy Act of 1954, as amended, (AEA) provides the statutory basis by which the NRC may enter into an agreement with the governor of a State to discontinue portions of its regulatory authority to license and regulate byproduct materials, source materials, and certain quantities of special nuclear materials. States may assume the authority to regulate those materials after the NRC determines that a perspective State's radiation control program is adequate to protect public health and safety and compatible with the NRC's regulatory program. Through the Agreement State program, 39 States have signed agreements with the NRC. The NRC retains an oversight role for adequacy to protect public health and safety, and compatibility with the NRC's regulatory program.

Section 274j of the AEA, requires that the NRC periodically review each Agreement State to ensure that the Agreement State's regulatory programs are adequate and compatible. It is the policy of the NRC to evaluate the radiation control program's performance in an integrated manner, using performance indicators, to ensure that public health and safety is being adequately protected. The periodic review process for an Agreement State's regulatory program and the NRC's radioactive materials program is called the Integrated Materials Performance Evaluation Program (IMPEP).

The IMPEP review team presents the findings to a Management Review Board (MRB). The MRB Chair then makes the final determination regarding a radiation control program's overall performance in a public meeting. Information considered by the MRB Chair includes the proposed final IMPEP report which presents suggested performance indicator ratings and recommendations prepared by the IMPEP team, input from MRB members, and information provided by the radiation control program at the MRB meeting. For most IMPEP reviews, no action other than issuance of the final IMPEP report is needed. For those infrequent reviews where additional action is needed, the MRB Chair may consider Monitoring, Heightened Oversight, and recommendations for Probation, Suspension, or Termination. The most significant actions—Probation, Suspension, or Termination—require Commission approval.

In 2022, the MRB Chair recommended, and the Commission agreed, to place Mississippi on Probation, due to a significant decline in Program performance (87 FR 60212). The MRB Chair directed staff to conduct a follow-up IMPEP review in approximately 1 year from the 2022 IMPEP review.

During the 2023 IMPEP review, the team found that the changes made by Mississippi in response to the 2022 IMPEP review resulted in significant performance improvements across the Program and improved its performance findings relative to five indicators. The team found Mississippi's performance to be satisfactory for the following four performance indicators: Status of Materials Inspection Program; Technical Quality of Inspections; Technical Quality of Incident and Allegation Activities; and Legislation, Regulations, and Other Program Elements. The team found Mississippi's performance to be satisfactory but needs improvement for the following two performance indicators: Technical Staffing and Training and Technical Quality of Licensing Actions. The performance finding for the indicator Technical Staffing and Training remained the same, as satisfactory but needs improvement.

On June 29, 2023, the MRB met to discuss the results of the 2023 IMPEP review. Based on the results of the 2023 IMPEP review, the MRB Chair closed the 2017 IMPEP review recommendation, closed 9 of the 10 recommendations made during the 2022 IMPEP, and opened one new recommendation. The MRB Chair also found Mississippi's performance adequate to protect public health and safety but needs improvement and compatible with the NRC's program. The MRB Chair directed staff to conduct a periodic meeting take place in approximately 1 year with the next IMPEP review taking place in approximately 2 years. On July 27, 2023, the staff issued the final IMPEP report documenting the bases for these findings (ADAMS Accession No. ML23188A186).

As a result of improved performance seen during Mississippi's 2023 IMPEP review and the significant progress made on completing the actions in the Program Improvement Plan, the MRB Chair requested that the Commission discontinue Mississippi's Probationary period and be placed on a period of Heightened Oversight. The Commission agreed with the recommendations to discontinue Mississippi's Probationary Period and the Governor of Mississippi has been notified of this decision.

Dated: December 7, 2023.
For the Nuclear Regulatory Commission.
Kenneth T. Erwin,
Acting Director, Division of Materials Safety, Security, State, and Tribal Programs, Office of Material Safety and Safeguards.

[FR Doc. 2023-27250 Filed 12-12-23; 8:45 am]

BILLING CODE 7590-01-P